POSTAL SERVICE

Temporary Emergency Committee of the Board of Governors; Sunshine Act Meeting

Dates and Times: Tuesday, May 9, 2017, at 9:00 a.m.; and Wednesday, May 10, at 8:00 a.m.

Place: Washington, DC, at U.S. Postal Service Headquarters, 475 L'Enfant Plaza SW., in the Benjamin Franklin Room.

Status: Tuesday, May 9, 2017, at 9:00 a.m.—Closed; Wednesday, May 10, at 8:00 a.m.—Open.

Matters to be Considered

Tuesday, May 9, 2017, at 9:00 a.m. (Closed)

1. Financial Matters.

2. Strategic Issues.

3. Governors' Executive Session—Discussion of prior agenda items and Board governance.

Wednesday, May 10, 2017, at 8:00 a.m. (Open)

1. Remarks of the Postmaster General and CEO and Chairman of the Temporary Emergency Committee of the Board.

2. Approval of Minutes of Previous Meetings.

3. Committee Reports.

4. Quarterly Report on Financial Performance.

5. Quarterly Service Performance Report.

6. Tentative Agenda for the June 20 Meeting.

Contact Person for More Information: Julie S. Moore, Secretary of the Board, U.S. Postal Service, 475 L'Enfant Plaza SW., Washington, DC 20260-1000. Telephone: (202) 268-4800.

Julie S. Moore,
Secretary.

[FR Doc. 2017-08676 Filed 4-25-17; 4:15 pm]

BILLING CODE 7710-12-P